DEPARTMENT OF ENERGY

Federal Energy Regulatory Commission

[Docket No. ES01-29-000, et al.]

Oregon Trail Electric Consumers Cooperative, Inc., et al.; Electric Rate and Corporate Regulation Filings

April 12, 2001.

Take notice that the following filings have been made with the Commission:

1. Oregon Trail Electric Consumers Cooperative, Inc.

[Docket No. ES01-29-000]

Take notice that on April 10, 2001, Oregon Trail Electric Consumers Cooperative, Inc. (Oregon Trail) submitted an application pursuant to section 204 of the Federal Power Act seeking authorization to (1) issue long-term notes in an amount not to exceed $14 million and (2) enter into and borrow funds under a two-year, $5 million line-of-credit agreement.

Oregon Trail also requests a waiver of the Commission's competitive bidding and negotiated placement requirements at 18 CFR 34.2.

Comment date: May 3, 2001, in accordance with Standard Paragraph E at the end of this notice.

2. FPL Group, Inc., Entergy Corporation

[Docket No. EC01-33-000; Docket No. ER01-543-000]

Take notice that on April 2, 2001, FPL Group, Inc. and Entergy Corporation tendered for filing with the Federal Energy Regulatory Commission (Commission) a notice of withdrawal of their November 30, 2000 filing of (1) an application (Joint Application) under section 203 of the Federal Power Act requesting all authorization necessary to consummate their proposed merger and (2) a System Integration agreement (SIA) to take effect upon consummation of the merger.

Comment date: April 23, 2001, in accordance with Standard Paragraph E at the end of this notice.

3. American Transmission Company LLC

[Docket No. EC01-87-000]

Take notice that on April 10, 2001, American Transmission Company LLC (ATCLLC) tendered for filing an application under section 203 of the Federal Power Act for authorization for ATCLLC to acquire ownership and operational control over certain transmission facilities of 11 municipal and cooperative utilities in Wisconsin and Michigan. ATCLLC intends to acquire these facilities and give the transferring entities an ownership interest in ATCLLC in exchange.

A copy of the filing has been served on the Public Service Commission of Wisconsin and the Michigan Public Service Commission.

Comment date: May 1, 2001, in accordance with Standard Paragraph E at the end of this notice.

4. Pacific Gas and Electric Company

[Docket No. ER01-833-000]

Take notice that on April 9 , 2001, Pacific Gas and Electric Company (PG&E) tendered for filing an additional Request for Deferral of Consideration of the unexecuted Wholesale Distribution Tariff Service Agreement and Interconnection Agreement between Pacific Gas and Electric Company and Modesto Irrigation District (MID) filed in FERC Docket No. ER01-833-000 on December 29, 2000. PG&E and Modesto are still discussing the final terms of these Agreements and PG&E therefore is notifying the Commission that the executed WDT and IA will not be filed by April 14, 2001, the first requested deferral date.

PG&E requests that the Commission defer consideration of the WDT Service Agreement and IA filed in ER01-833-000 to June 14, 2001 or 60 days beyond the first request for Deferral in order that the parties may finalize the Agreements. Copies of this filing have been served upon MID, the California Independent System Operator Corporation, and the California Public Utilities Commission.

Comment date: April 30, 2001, in accordance with Standard Paragraph E at the end of this notice.

5. Puget Sound Energy, Inc.

[Docket No. ER01-934-001]

Take notice that on April 9, 2001, Puget Sound Energy, Inc., tendered for filing a reformatted executed Confirmation of Special Storage Arrangement with The City of Seattle, acting by and through its Lighting Department (SCL). A copy of the filing was served upon SCL.

Comment date: April 30, 2001, in accordance with Standard Paragraph E at the end of this notice.

6. Puget Sound Energy, Inc.

[Docket No. ER01-1009-001]

Take notice that on April 9, 2001, Puget Sound Energy, Inc., tendered for filing a reformatted executed Special Storage Agreement with Avista Corporation (AVISTA). A copy of the filing was served upon AVISTA.

Comment date: April 30, 2001, in accordance with Standard Paragraph E at the end of this notice.

7. Northern Lights Power Company

[Docket No. ER01-1414-001]

Take notice that on April 9, 2001, Northern Lights Power Company (NLPC) tendered for filing an amended petition for acceptance of NLPC Rate Schedule FERC No. 1; the granting of certain blanket approvals, including the authority to sell electricity at market-based rates; and the waiver of certain Commission regulations.

This filing amends and provides answers to required information deficiencies found in the original filing.

Comment date: April 30, 2001, in accordance with Standard Paragraph E at the end of this notice.

8. Solar Turbines Incorporated and STI Capital Company

[Docket No. ER01-1703-000]

Take notice that on March 30, 2001, Solar Turbines Incorporated (Solar) and STI Capital Company (STI), tendered for filing supplementing their Application for authorization to transfer jurisdictional assets pursuant to Sections 203 and 205 of the Federal Power Act and Part 33 of the Commission's Regulations.

The Application seeks authorization for Solar to transfer to STI any jurisdictional interconnection facilities, Solar's market based rate schedule and any wholesale power agreements executed pursuant to that rate schedule. The supplement consists entirely of a copy of the Purchase and Transfer Agreement between Solar and STI. Confidential treatment has been requested for the supplemental information.

Comment date: April 20, 2001, in accordance with Standard Paragraph E at the end of this notice.

9. Public Service Company of New Mexico

[Docket No. ER01-1731-000]

Take notice that on April 9, 2001, Public Service Company of New Mexico (PNM) tendered for filing two executed service agreements with Axia Energy, L.P. (Axia), under the terms of PNM's Open Access Transmission Tariff. One agreement is for short-term firm point-to-point transmission service and one is for non-firm point-to-point transmission service.

Both agreements are dated March 26, 2001. PNM's filing is available for public inspection at its offices in Albuquerque, New Mexico.

Copies of the filing have been sent to Axia and to the New Mexico Public Regulation Commission.

Comment date: April 30, 2001, in accordance with Standard Paragraph E at the end of this notice.

10. Atlantic City Electric Company and Delmarva Power & Light Company

[Docket No. ER01-1753-000]

Take notice that on April 6, 2001, Conectiv, on behalf of its subsidiaries Atlantic City Electric Company (Atlantic) and Delmarva Power & Light Company (Delmarva), tendered for filing the following notices of termination for the following service agreements under Atlantic's and Delmarva's market-based rate tariffs, FERC Electric Tariff, Third Revised Volume No. 1 and FERC Electric Tariff, Third Revised Volume No. 14, respectively:

| Service agreement No.
Delmarva Power & Light Company:
AYP Energy, Inc | 48
Allegheny Power System | 18
Ameren Services Company | 94
American Energy Trading, Inc | 36
Aquila Energy | 9
Central Hudson Enterprises Corporation | 97
Central Vermont Public Service Corporation | 95
Cinergy Capital & Trading, Inc | 80
Citizens Power Sales LLC | 39
CNG Power Services Corporation | 33
Conoco, Inc., formerly known as Dupont Power Marketing, Inc | 1
Constellation Power Source, Inc | 96
Continental Energy Services, L.L.C | 67
Edison Source | 47
Commonwealth Energy Corporation d/b/a ElectricAmerica | 99
Engage Energy, formerly known as Coastal Electric Services Company | 19
Englehard Power Marketing, Inc | 23
Entergy Power Marketing Corporation | 55
Illinois Power Company | 35
LG&E Power Marketing, Inc | 39
Long Island Lighting Company d/b/a LIPA through its agent Keyspan Energy Trading Services, L.L.C | 87
Merchant Energy Group of the Americas | 76
MidCon Power Services Corporation | 51
North American Energy Conservation, Inc | 42
NESI Power Marketing, Inc | 61
Niagara Mohawk Power Company | 13
Northern/AES Energy, LLC; Minnesota Power | 78
NYSEG Solutions, Inc | 84
Orange and Rockland Utilities, Inc | 91
PacifiCorp Power Marketing, Inc | 46
Reliant Energy Services, Inc., formerly known as NorAmEnergy Management, Inc | 59
South Carolina Electric & Gas Company | 34
Stand Energy Corporation | 64
Strategic Power Management, Inc | 89
TransCanada Power Corporation | 3
Atlantic City Electric Company:
Aquila Energy | 18
Citizens Power Sales L.L.C | 22
Engage Energy, formerly known as Coastal Energy Services Company | 11
Entergy Power Marketing Corp | 60
GPU Energy | 58
Merchant Energy Group of the Americas | 75
NP Energy | 67
Reliant Energy Services, Inc. formerly known as NorAm Energy Management, Inc | 65
Sempra Energy formerly known as AIG Trading Corporation | 12
Virginia Electric and Power Company | 8

Conectiv requests that all of the notices of termination become effective on June 5, 2001, sixty days after the date of this filing.

Conectiv has served this filing on all of the Atlantic and Delmarva customers under the service agreements to be terminated through this filing, the Maryland Public Service Commission, Delaware Public Service Commission, Virginia State Corporation Commission and New Jersey Board of Public Utilities.

Comment date: April 27, 2001, in accordance with Standard Paragraph E at the end of this notice.

11. Altorfer Inc.

[Docket No. ER01-1758-000]

Take notice that on April 9, 2001, Altorfer Inc. (Altorfer), of Cedar Rapids, Iowa, tendered for filing a Power Purchase Agreement with Central Illinois Light Company, under which Altorfer would sell energy to CILCO at market-based rates.

Altorfer requested an effective date of June 1, 2001.

Copies of the filing were served on the affected customer and the Illinois Commerce Commission.

Comment date: April 30, 2001, in accordance with Standard Paragraph E at the end of this notice.

12. Kansas Gas and Electric Company

[Docket No. ER01-1759-000]

Take notice that on April 9, 2001, Kansas Gas and Electric Company (KGE) tendered for filing an original Electric Interconnection Agreement and an official cancellation of its FERC No. 162 Electric Service Agreement between KGE and the City of Oxford, Kansas (City). KGE requests an effective date of April 1, 2001 for these rate schedule changes.

Notice of the filing has been served upon the City and the Kansas Corporation Commission.

Comment date: April 30, 2001, in accordance with Standard Paragraph E at the end of this notice.

13. Haleywest L.L.C.

[Docket No. ER01-1760-000]

Take notice that on April 9, 2001, Haleywest L.L.C. (Haleywest), tendered for filing an application to shorten time for notice and comments, for waivers and blanket approvals under various regulations of the Commission, and for an order accepting its FERC Electric Rate Schedule No. 1. Haleywest proposes that its Rate Schedule No. 1 become effective upon commencement of service of the Haleywest power plant (the Plant), a generation project currently being developed by Haleywest in the State of Idaho. The Plant will commence the sale of power on April 20, 2001.

Haleywest intends to sell energy and capacity from the Plant at market-based rates, and on such terms and conditions to be mutually agreed upon with the purchasing party. Copies of the filing were served on Avista Utilities, Inc., and the Idaho Public Utilities Commission.

Comment date: April 30, 2001, in accordance with Standard Paragraph E at the end of this notice.

14. Tampa Electric Company

[Docket No. ER01-1761-000]

Take notice that on April 9, 2001, Tampa Electric Company (Tampa Electric) tendered for filing a Notice of Termination of a service agreement with Tampa Electric, in its wholesale merchant function, under Tampa Electric's open access transmission tariff.

Tampa Electric proposes that the termination be made effective on March 16, 2001, and therefore requests waiver of the Commission's notice requirement.

Copies of the filing have been served on Tampa Electric as wholesale merchant and the Florida Public Service Commission.

Comment date: April 30, 2001, in accordance with Standard Paragraph E at the end of this notice.

15. PPL Electric Utilities Corporation

[Docket No. ER01-1762-000]

Take notice that on April 9, 2001, PPL Electric Utilities Corporation (PPL Electric Utilities) tendered for filing an Interconnection Agreement between PPL Electric Utilities and RR Donnelley & Sons Company.

Comment date: April 30, 2001, in accordance with Standard Paragraph E at the end of this notice.

16. Duke Electric Transmission

[Docket No. ER01-1763-000]

Take notice that on April 9, 2001, Duke Electric Transmission, tendered for filing an amendment to the Interconnection and Operating Agreement between Duke Electric Transmission and Broad River Energy LLC. in the above-captioned docket.

Comment date: April 30, 2001, in accordance with Standard Paragraph E at the end of this notice.

17. PEI Power II, LLC

[Docket No. ER01-1764-000]

Take notice that on April 9, 2001, PEI Power II, LLC tendered for filing an application seeking authorization, on an expedited basis, to make sales at market-based rates and for certain waivers and blanket authorizations.

Comment date: April 30, 2001, in accordance with Standard Paragraph E at the end of this notice.

18. Illinois Power Company

[Docket No. ER01-1765-000]

Take notice that on April 9, 2001, Illinois Power Company (Illinois Power), 500 South 27th Street, Decatur, Illinois 65251-2200, tendered for filing a Firm Long-Term Point-to-Point Transmission Service Agreement entered into with Dynegy Power Marketing, Inc. (DPM) pursuant to Illinois Power's Open Access Transmission Tariff.

Illinois Power requests an effective date of January 1, 2002 for the Agreements. Illinois Power states that a copy of this filing has been sent to DPM.

Comment date: April 30, 2001, in accordance with Standard Paragraph E at the end of this notice.

19. Southern Company Services, Inc.

[Docket No. ER01-1772-000 ER01-602-003]

Take notice that on April 6, 2001, Southern Company Services, Inc. (SCS) as agent for Alabama Power Company, Georgia Power Company, Gulf Power Company, Mississippi Power Company and Savannah Electric and Power Company (collectively, Southern Companies), tendered for filing rate schedule sheets compliant with Commission Order No. 614 for certain Southern Operating Companies Rate Schedules. The Rate Schedules concern interchange service contracts between Southern Companies, SCS and Enron Power Marketing, Inc. (FERC No. 80); Sonat Power Marketing Inc. (FERC No. 81); Heartland Energy Services, Inc. (FERC No. 83); LG&E Power Marketing, Inc. (FERC No. 84); Catex Vitol, L.L.C. (FERC No. 85); PECO Energy Company (FERC No. 86); NorAm Energy Services, Inc. (FERC No. 87); Valero Power Services Company (FERC No. 89); Entergy Power, Inc. (FERC No. 91); Delhi Energy Services, Inc. (FERC No. 92); Citizens Lehman Power Sales (FERC No. 94); Eastex Power Marketing, Inc. (FERC No. 95); Louis Dreyfus Electric Power Inc. (FERC No. 96); Stand Energy Corporation (FERC No. 98); and Electric Clearinghouse, Inc. (FERC No. 99).

Comment date: April 17, 2001, in accordance with Standard Paragraph E at the end of this notice.

20. Southern Electric Generation Co.

[Docket No. ER01-1773-000 ER01-602-004]

Take notice that on April 6, Southern Electric Generation Company tendered for filing original tariff sheets compliant with the formatting requirements of Commission Order No. 614.

Comment date: April 17, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9656 Filed 4-18-01; 8:45 am]

BILLING CODE 6717-01-P